DEPARTMENT OF HOMELAND SECURITY

Federal Emergency Management Agency

[Docket ID: FEMA-2007-0008]

National Advisory Council

AGENCY: Federal Emergency Management Agency, DHS.

ACTION: Committee Management; Request for Applicants for Appointment to the National Advisory Council.

SUMMARY: The Federal Emergency Management Agency (FEMA) is requesting individuals who are interested in serving on the National Advisory Council (NAC) to apply for appointment. As provided for in the Department of Homeland Security Appropriations Act of 2007, the Secretary of Homeland Security established the NAC to ensure effective and ongoing coordination of Federal preparedness, protection, response, recovery, and mitigation for natural disasters, acts of terrorism, and other man-made disasters.

DATES: Applications for membership should reach FEMA at the address below beginning Friday, February 4, 2011 and before 5 p.m. EST, on Friday, March 4, 2011.

ADDRESSES: Applications for membership should be submitted by:

• E-mail: FEMA-NAC@dhs.gov.

• Fax: (202) 646-3930.

• Mail: The National Advisory Council Office, Federal Emergency Management Agency (Room 832), 500 C Street, SW., Washington, DC 20472-3100.

FOR FURTHER INFORMATION CONTACT: Designated Federal Officer, Alyson Price, The National Advisory Council Office, Federal Emergency Management Agency (Room 832), 500 C Street, SW., Washington, DC 20472-3100; telephone (202) 646-3746; fax (202) 646-3930; and e-mail FEMA-NAC@dhs.gov. For more information on the NAC, please visit the NAC Web site at http://www.fema.gov/about/nac. FEMA's Ethics Office may be contacted at telephone (202) 282-9822 or e-mail ogc@dhs.gov.

SUPPLEMENTARY INFORMATION: The National Advisory Council (NAC) is an advisory committee established in accordance with the provisions of the Federal Advisory Committee Act (FACA), 5 U.S.C. App. 1, et seq. (Pub. L. 92-463). The Secretary of Homeland Security established the NAC to ensure effective and ongoing coordination of Federal preparedness, protection, response, recovery, and mitigation for natural disasters, acts of terrorism, and other man-made disasters (6 U.S.C. 318).

The NAC consists of 35 members, all of whom are experts and leaders in their respective fields. Approximately one-third of the membership was appointed for a 3-year term expiring on June 15, 2011. Accordingly, the following discipline areas will have a position open for applications and nominations: Emergency Management, Emergency Response, Health Scientist, Standard Settings, Infrastructure Protection, Communications, Disabilities, Local Non-Elected Official, Tribal Elected Official, and three appointments which will be selected at the discretion of the FEMA Administrator. In addition, FEMA seeks applications to fill the remaining term for the Local Elected Official position whose term ends on June 15, 2012 and for the State Non-Elected Official position and an Administrator's Selection position which both end on June 15, 2013.

Appointees may be designated as Special Government Employees (SGE) as defined in section 202(a) of title 18, United States Code. Candidates selected for appointment as SGEs are required to complete a Confidential Financial Disclosure Form (Office of Government Ethics (OGE) Form 450). OGE Form 450 or the information contained therein may not be released to the public except under an order issued by a Federal court or as otherwise provided under the Privacy Act (5 U.S.C. 552a). Applicants can obtain this form by going to the Web site of the Office of Government Ethics (http://www.oge.gov), contacting the NAC Office, or by contacting the FEMA Ethics Office. Contact information is provided in the FOR FURTHER INFORMATION CONTACT section of this notice.

The NAC assists FEMA in carrying out its missions by providing advice and recommendations to the FEMA Administrator on the development and revision of the national preparedness goal, the national preparedness guidelines, the National Incident Management System, the National Response Framework, National Exercise Program, and other related plans and strategies. The members of the NAC are appointed by the Administrator of FEMA and are composed of Federal, State, local, Tribal, and private-sector leaders and subject matter experts in law enforcement, fire, emergency medical services, hospital, public works, emergency management, State and local governments, public health, emergency response, standard settings and accrediting organizations, representatives of individuals with disabilities and other special needs, infrastructure protection, cyber security, communications, and homeland security communities.

Qualified individuals interested in serving on the NAC are invited to apply for appointment by submitting a resume or Curriculum Vitae (CV) to the NAC Office as listed in the ADDRESSES section of this notice. Letters of recommendation may also be provided, but are not required. Please ensure the submission includes the following information: The applicant's full name, home and business phone numbers, preferred e-mail address, home and business mailing addresses, current position title & organization, and the discipline area of interest (i.e., Emergency Management). Current NAC members whose terms are ending should notify the NAC Office of their interest in reappointment in lieu of submitting a new application, and should provide an updated resume and/or CV and letters of recommendation for consideration, if desired. The NAC meets in a plenary session approximately once per quarter. The NAC also holds at least one yearly teleconference meeting with public call-in lines. Members serve without compensation from the Federal Government; however, consistent with the charter, they do receive travel reimbursement and per diem under applicable Federal travel regulations. In support of the policy of the Department of Homeland Security on gender and ethnic diversity, qualified women and minorities are encouraged to apply for membership. Registered lobbyists, current FEMA employees, Disaster Assistance Employees, FEMA Contractors, and potential FEMA Contractors will not be considered for NAC Membership.

Dated: January 21, 2011.
W. Craig Fugate,
Administrator, Federal Emergency Management Agency.

[FR Doc. 2011-1807 Filed 1-26-11; 8:45 am]

BILLING CODE 9111-48-P